ENVIRONMENTAL PROTECTION AGENCY

[FRL-9913-66-OEI]

Cross-Media Electronic Reporting: Authorized Program Revision Approval, Commonwealth of Kentucky

AGENCY: Environmental Protection Agency (EPA).

ACTION: Notice.

SUMMARY: This notice announces the Environmental Protection Agency (EPA's) approval of the Commonwealth of Kentucky's request to revise/modify certain of its EPA-authorized programs to allow electronic reporting.

DATES: EPA's approval is effective August 13, 2014 for the Commonwealth of Kentucky's National Primary Drinking Water Regulations Implementation program, if no timely request for a public hearing is received and accepted by the Agency, and on July 14, 2014 for the Commonwealth of Kentucky's other authorized programs addressed by this notice.

FOR FURTHER INFORMATION CONTACT: Karen Seeh, U.S. Environmental Protection Agency, Office of Environmental Information, Mail Stop 2823T, 1200 Pennsylvania Avenue NW., Washington, DC 20460, (202) 566-1175, seeh.karen@epa.gov.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that states, tribes or local government agencies that receive, or wish to begin receiving, electronic reports under their EPA-authorized programs apply to EPA for revisions or modifications of those programs and obtain EPA approval. Subpart D provides standards for such approvals based on consideration of the electronic document receiving systems that the state, tribe, or local government will use to implement the electronic reporting. Additionally, § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On January 14, 2010, the Kentucky Department for Environmental Protection (KY DEP) submitted an application under 40 CFR part 3, subpart D, for revisions/modifications of its EPA-authorized programs listed below to allow specified electronic reporting. The application, titled “Electronic Reporting System,” was subsequently amended on December 20, 2010, and again on May 17, 2012. Based on EPA's review of KY DEP's application, EPA determined that it met the 40 CFR part 3, subpart D standards for approval of authorized program revisions/modifications. In accordance with 40 CFR 3.1000(d), EPA is publishing this notice of the Agency's approval of Kentucky's request to allow electronic reporting as specified in its application by revising/modifying its EPA-authorized programs under the following parts of title 40 of the CFR:

Part 52—Approval and Promulgation of Implementation Plans,

Part 60—Standards of Performance for New Stationary Sources,

Part 61—National Emission Standards for Hazardous Air Pollutants,

Part 63—National Emission Standards for Hazardous Air Pollutants for Source Categories,

Part 65—Consolidated Federal Air Rule,

Part 68—Chemical Accident Prevention Provisions,

Part 70—State Operating Permit Programs,

Part 71—Federal Operating Permit Programs,

Part 72—Permits Regulation,

Part 74—Sulfur Dioxide OPT-INS,

Part 75—Continuous Emission Monitoring,

Part 79—Registration of Fuels and Fuel Additives,

Part 80—Regulation of Fuels and Fuel Additives,

Part 82—Protection of Stratospheric Ozone,

Part 86—Control of Emissions from New and IN-USE Highway Vehicles and Engines,

Part 89—Control of Emissions from New and IN-USE Nonroad Compression-Ignition Engines,

Part 90—Control of Emissions from Nonroad Spark-Ignition Engines at or Below 19 Kilowatts,

Part 91—Control of Emissions from Marine Spark-Ignition Engines,

Part 92—Control of Air Pollution from Locomotives and Locomotive Engines,

Part 94—Control of Emissions from Marine Compression-Ignition Engines,

Part 123—National Pollutant Discharge Elimination System (NPDES) State Program Requirements,

Part 142—National Primary Drinking Water Regulations,

Part 147—State Underground Injection Control Programs,

Part 272—Approved State Hazardous Waste Management Programs,

Part 281—Approval of State Underground Storage Tank Programs,

Part 403—General Pretreatment Regulations for Existing and New Sources of Pollution, and

Part 503—Standards for the Use or Disposal of Sewage Sludge.

KY DEP was notified of EPA's determination to approve its application with respect to the authorized programs listed above.

Also, in today's notice, EPA is informing interested persons that they may request a public hearing on EPA's action to approve the Commonwealth of Kentucky's request to revise its authorized public water system program under 40 CFR part 142, in accordance with 40 CFR 3.1000(f). Requests for a hearing must be submitted to EPA within 30 days of publication of today's Federal Register notice. Such requests should include the following information:

(1) The name, address and telephone number of the individual, organization or other entity requesting a hearing;

(2) A brief statement of the requesting person's interest in EPA's determination, a brief explanation as to why EPA should hold a hearing, and any other information that the requesting person wants EPA to consider when determining whether to grant the request;

(3) The signature of the individual making the request, or, if the request is made on behalf of an organization or other entity, the signature of a responsible official of the organization or other entity.

In the event a hearing is requested and granted, EPA will provide notice of the hearing in the Federal Register not less than 15 days prior to the scheduled hearing date. Frivolous or insubstantial requests for a hearing may be denied by EPA. Following such a public hearing, EPA will review the record of the hearing and issue an order either affirming today's determination or rescinding such determination. If no timely request for a hearing is received and granted, EPA's approval of the Commonwealth of Kentucky's request to revise its part 142 National Primary Drinking Water Regulations Implementation program to allow electronic reporting will become effective 30 days after today's notice is published, pursuant to CROMERR section 3.1000(f)(4).

Dated: July 2, 2014.
Matthew Leopard,
Acting Director, Office of Information Collection.

[FR Doc. 2014-16410 Filed 7-11-14; 8:45 am]

BILLING CODE 6560-50-P